DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Atlantic Sea Scallop Collections.

Form Number(s): None.

OMB Approval Number: 0648-0491.

Type of Request: Regular submission.

Burden Hours: 7,949.

Number of Respondents: 981.

Average Hours Per Response: Vessel Monitoring System (VMS) trip termination form, compensation trip ID VMS form, trip declaration, powerdown provision and installation verification, 2 minutes; broken trip adjustment sheet, 10 minutes; and access area trip exchange application, 15 minutes.

Needs and Uses: The National Marine Fisheries Service Northeast Region manages the Atlantic sea scallop (scallop) fishery of the Exclusive Economic Zone (EEZ) off the East Coast under the Atlantic Sea Scallop Fishery Management Plan (FMP). The regulations implementing the FMP are at 50 CFR part 648. To successfully implement and administer parts of the FMP, OMB Control No. 0648-0491 includes the following information collections:

1. VMS requirements for occasional scallop vessels that wish to participate in the access area program;

2. VMS requirements for general Category 1B scallop vessels. Category 1B vessels are authorized to land up to 400 lb of scallops;

3. Access area broken trip notification requirements;

4. Access area trip exchange application procedures; and

5. Increased VMS polling frequency to one-half hour from one hour.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 17, 2007.
Gwellnar Banks,
Management Analyst, Office of the Chief Information Officer.

[FR Doc. E7-9863 Filed 5-22-07; 8:45 am]

BILLING CODE 3510-22-P